DEPARTMENT OF COMMERCE

National Oceanic and Atmospheric Administration

RIN 0648-XC580

Marine Mammals; File No. 17751

AGENCY: National Marine Fisheries Service (NMFS), National Oceanic and Atmospheric Administration (NOAA), Commerce.

ACTION: Notice; issuance of permit.

SUMMARY: Notice is hereby given that a permit has been issued to Yoko Mitani, Ph.D., Hokkaido University, 3-1-1 Minato-cho, Hakodate, Hokkaido 041-8611, Japan, to conduct research on gray (Eschrichtius robustus) and killer (Orcinus orca) whales.

ADDRESSES: The permit and related documents are available for review upon written request or by appointment in the following offices:

Permits and Conservation Division, Office of Protected Resources, NMFS, 1315 East-West Highway, Room 13705, Silver Spring, MD 20910; phone (301) 427-8401; fax (301) 713-0376; and

Alaska Region, NMFS, P.O. Box 21668, Juneau, AK 99802-1668; phone (907) 586-7221; fax (907) 586-7249.

FOR FURTHER INFORMATION CONTACT: Carrie Hubard or Kristy Beard, (301) 427-8401.

SUPPLEMENTARY INFORMATION: On March 26, 2013, notice was published in the Federal Register (78 FR 18322) that a request for a permit to conduct research on the species identified above had been submitted by the above-named applicant. The requested permit has been issued under the authority of the Marine Mammal Protection Act of 1972, as amended (16 U.S.C. 1361 et seq.) and the regulations governing the taking and importing of marine mammals (50 CFR part 216).

Permit No. 17751 authorizes Dr. Mitani to study gray and killer whales in Alaskan waters, including the Pacific Ocean, Bering Sea, Chukchi Sea, and Arctic Ocean. The objectives of the research are to examine the distribution and movement patterns of gray and killer whales in the area. Research methods consist of vessel surveys, photo-identification, behavioral observations, passive acoustics, thermal imaging, collection of sloughed skin and prey items, and dart tagging. Annually, up to ten killer whales and ten gray whales may have a LIMPET satellite dart tag attached. An additional 1000 animals of each species may be approached for non-invasive research activities or incidentally harassed annually. The permit is valid through June 30, 2018.

In compliance with the National Environmental Policy Act of 1969 (42 U.S.C. 4321 et seq.), a final determination has been made that the activity proposed is categorically excluded from the requirement to prepare an environmental assessment or environmental impact statement.

Dated: June 26, 2013.
P. Michael Payne,
Chief, Permits and Conservation Division, Office of Protected Resources, National Marine Fisheries Service.

[FR Doc. 2013-15750 Filed 7-1-13; 8:45 am]

BILLING CODE 3510-22-P